DEPARTMENT OF LABOR

Occupational Safety and Health Administration

[Docket No. ICR 1218-0003 (2004)]

Gear Certification Standard; Extension of the Office of Management and Budget's (OMB) Approval of Information Collection (Paperwork) Requirements

AGENCY: Occupational Safety and Health Administration (OSHA), Labor.

ACTION: Request for comment.

SUMMARY: OSHA solicits comments concerning its proposal to extend OMB approval of the Information Collection Requirements contained in the Gear Certification Standard (29 CFR part 1919). These maritime regulations require employers to have an OSHA 71 Form issued for equipment found to be in a safe condition and the OSHA 72 Form issued to equipment that is unsafe. These forms are issued by third parties who have applied to OSHA, on the OSHA 70 Form, for accreditation to certify gear used in maritime employment.

DATES: Comments must be submitted by the following dates:

Hard copy: Your comments must be submitted (postmarked or received) by October 26, 2004.

Facsimile and electronic transmission: Your comments must be received by October 26, 2004.

ADDRESSES: You may submit comments, identified by OSHA Docket No. ICR-1218-0003 (2004), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. Comments, submissions, and the ICR are available for inspection and copying at the OSHA Docket Office at the address above. You may also contact Theda Kenney at the address below to obtain a copy of the ICR.

(For additional information on submitting comments, please see the “Public Participation” heading in the SUPPLEMENTARY INFORMATION section of this document.)

FOR FURTHER INFORMATION CONTACT: Theda Kenney or Todd Owen, Directorate of Standards and Guidance, OSHA, Room N-3609, U.S. Department of Labor, 200 Constitution Avenue, NW., Washington, DC 20210; telephone (202) 693-2222.

SUPPLEMENTARY INFORMATION:

I. Public Participation—Submission of Comments on This Notice and Internet Access to Comments and Submissions

You may submit comments and supporting materials in response to this notice by (1) hard copy, (2) fax transmission (facsimile), or (3) electronically through the OSHA Web page. Because of security related problems, there may be a significant delay in the receipt of comments by regular mail. Please contact the OSHA Docket Office at (202) 2693-2350 (TTY (877) 889-5627) for information about security procedures concerning the delivery of materials by express delivery, hand delivery and messenger service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational safety and Health Act of 1970 (the Act) (29 U.S.C. 651 et seq.) authorizes information to collection by employees as necessary or appropriate or enforcement of the Act or for developing information regarding the causes and prevention of occupational inquiries, illnesses, and accidents (28 U.S.C. 657).

The OSHA 70 Form is used by applicants seeking accreditation from OSHA to be able to test or examine certain equipment and material handling devices, as required under the maritime regulations, part 1917 (Marine Terminals), and part 1918 (Longshoring). The OSHA 70 Form application for accreditation provides an easy means for companies to apply for accreditation.

The OSHA 71 Form is required to be issued by the those accredited by OSHA to employers in the maritime industry to make known that certain equipment and material handling devices are safe to use of operate. The OSHA 72 Form is required to be issued by those accredited by OSHA to employers in the maritime industry when the equipment or material handling device is found to be unsafe to use.

The collection of the information needed to complete these forms is necessary to provide an affective and efficient means of enabling employers and employees to determine if cargo gear, equipment and/or other material handling devices are safe to use.

III. Special Issues for Comment

OSHA has a particular interest in comments on the following issues:

• OSHA has a particular interest in comments on the following times.

• Whether the proposed information collection requirements are necessary for the proper performance of the Agency's functions, including whether the information is useful;

• The accuracy of OSHA's estimate of the burden (time and costs) of the information-collection requirements, including the validity of the methodology and improvement used;

• The quality, utility, and clarity of the information collected; and

• Ways to minimize the burden on employers who must comply; for example, by using automated or other technological information collection and transmission techniques.

IV. Proposed Actions

OSHA is proposing to extend the information collection requirements in the Gear Certification Standard (29 CFR part 1919). The Agency will summarize the comments submitted in response to this notice and will include this summary in its request to OMB to extend the approval of these information collection requirements contained in the Standard.

Type of Review: Extension of currently approved information collection requirements.

Title: Gear Certification (29 CFR part 1919).

OMB Number: 1218-0003.

Affected Public: Business or other for-profit, not-for-profit institutions; Federal government; State, local, or Tribal governments.

Number of Respondents: 80.

Frequency of Response: On occasion, annually; quadrenially.

Total Responses: 82.

Average Time per Response: Varies from 2 minutes (.03 hour) for a supervisor to disclose forms to an OSHA Compliance Officer during an inspection to 45 minutes (.75 hour) for an accredited agency to complete the OSHA 70 Form.

Estimated Total Burden Hours: 61.

Estimated Cost (Operation and Maintenance): $1,452,000.

V. Authority and Signature

John L. Henshaw, Assistant Secretary of the Labor for Occupational Safety and Health, directed the preparation of this notice. The authority for this notice is the Paperwork Reduction Act of 1995 (44 U.S.C. 3506 et seq.) and Secretary of Labor's Order No, 5-2002 (67 FR 65008).

Signed at Washington, DC, on August 23, 2004.
John L. Henshaw,
Assistant Secretary of Labor.

[FR Doc. 04-19630 Filed 8-26-04; 8:45 am]

BILLING CODE 4510-26-M